DEPARTMENT OF THE INTERIOR

Bureau of Land Management

[CA-160-1610DP-025B]

Notice of Availability of Draft Carrizo Plain National Monument Resource Management Plan and Draft Environmental Impact Statement, California

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a Draft Resource Management Plan/Environmental Impact Statement (RMP/EIS) for the Carrizo Plain National Monument (CPNM) planning area, managed by the Bakersfield Field Office. This notice announces the opening of the comment period.

DATES: The BLM must receive written comments on the Draft RMP/EIS within 90 days following the date the Environmental Protection Agency publishes its Notice of Availability in the Federal Register. The BLM will announce future meetings or hearings and any other public involvement activities at least 15 days in advance through public notices, media news releases, and/or mailings.

ADDRESSES: You may submit comments by any of the following methods:

• E-mail: cacarrizormp@ca.blm.gov.

• Fax: (661) 391-6143.

• Mail: CPNM RMP, Bureau of Land Management, 3801 Pegasus Drive, Bakersfield CA 93308.

Copies of the CPNM Draft RMP/Draft EIS are available in the Bakersfield Field Office at the above address; at the BLM California State Office—2800 Cottage Way, Sacramento, CA; and online at http://www.ca.blm.gov/bakersfield.

FOR FURTHER INFORMATION CONTACT: CPNM RMP Line (661) 391-6034.

SUPPLEMENTARY INFORMATION: The planning area for the CPNM RMP is in the Bakersfield Field Office's area of management responsibility. The planning area comprises the Carrizo Plain National Monument located in Coast Range of Central California. The BLM administers 200,000 acres of public lands in the planning area. The planning decisions in the RMP will only apply to the BLM-administered public lands and mineral estate within the planning area. The CPNM Draft RMP/EIS was developed through a collaborative planning process and considers four alternatives including a no-action alternative. The primary issues addressed include: recreation, protection of sensitive natural and cultural resources, livestock grazing; guidance for energy and mineral development, motorized vehicle route designation, and other planning issues raised during the scoping process.

Please note that public comments and information submitted including names, street addresses, and e-mail addresses of respondents will be available for public review and disclosure at the above address during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Timothy Z. Smith,
Bakersfield Field Manager.

[FR Doc. E9-1217 Filed 1-22-09; 8:45 am]

BILLING CODE 4310-40-P